DEPARTMENT OF LABOR

Employment and Training Administration

[TA-W-53,555 and TA-W-53,555A]

Vector Tobacco, Inc., Timberlack, NC; Vector Research LTD, Durham, NC; Notice of Termination of Investigation

Pursuant to section 221 of the Trade Act of 1974, as amended, an investigation was initiated on November 17, 2003, in response to a petition filed by the company on behalf of workers at Vector Tobacco, Inc., Timberlake, North Carolina (TA-W-53,555) and Vector Research LTD., Durham, North Carolina (TA-W-53,555A).

The petitioner has requested that the petition be withdrawn. Consequently, further investigation in this case would serve no purpose, and the investigation has been terminated.

Signed at Washington, DC, this 16th day of December, 2003.
Elliott S. Kushner,
Certifying Officer, Division of Trade Adjustment Assistance.

[FR Doc. 04-642 Filed 1-12-04; 8:45 am]

BILLING CODE 4510-30-P